FEDERAL COMMUNICATIONS COMMISSION

[DA 00-1648]

Limited Low Power Television/Television Translator/Class A Television Auction Filing Window; Partial Extension

AGENCY: Federal Communications Commission.

ACTION: Notice.

SUMMARY: This document announces that the limited low power television/ television translator/Class A television auction filing window originally scheduled to close on August 4, 2000, has been partially extended to August 31, 2000. However, the deadline for FCC Form 175 submissions remains August 4, 2000.

DATES: FCC Form 175's are due by 6 p.m., Eastern Standard Time (EST) on August 4, 2000. FCC Form 301-CA's or 346's are due by 7 p.m. EST on August 31, 2000.

FOR FURTHER INFORMATION CONTACT: Shaun Maher, Video Services Division, Mass Media Bureau at (202) 418-1600.

SUPPLEMENTARY INFORMATION: The filing window for the submission of FCC Form 175 will commence at 9 a.m. EST on July 31, 2000 and continue to 6 p.m. EST on August 4, 2000. Late-filed FCC Form 175's will not be considered. However, we will extend the deadline for the submission of the portions of FCC Forms 301-CA or 346 from August 4, 2000, to 7 p.m. EST August 31, 2000. We remind interested parties that a paper copy of the electronically filed FCC Form 175 must be included with each of the FCC Form 301-CA or 346 filings submitted from July 31st through August 31st.

Federal Communications Commission.
Roy J. Stewart,
Chief, Mass Media Bureau.

[FR Doc. 00-19171; Filed 7-28-00; 8:45 am]

BILLING CODE 6712-01-P